ENVIRONMENTAL PROTECTION AGENCY

[EPA-HQ-OPP-2014-0737; FRL-9920-77]

Benefits of Neonicotinoid Seed Treatment to Soybean Production; Reopening of Comment Period

AGENCY: Environmental Protection Agency (EPA).

ACTION: Notice; reopening of comment period.

SUMMARY: EPA issued a notice in the Federal Register of October 22, 2014, concerning the assessment the Agency conducted as part of its ongoing re-evaluation of clothianidin, imidacloprid, and thiamethoxam under the registration review program. This assessment examines the use of clothianidin, imidacloprid, and thiamethoxam seed treatments in terms of the extent of use and the pests targeted in order to characterize overall benefits to soybean production nationwide. In response to requests, the EPA is reopening the public comment period of EPA's analysis of Benefits of Neonicotinoid Seed Treatments to Soybean Production. This document reopens the comment period for 30 days to January 23, 2015.

DATES: Comments, identified by docket identification (ID) number EPA-HQ-OPP-2014-0737, must be received on or before January 23, 2015.

ADDRESSES: Follow the detailed instructions provided under ADDRESSES in the Federal Register document of October 22, 2014 (79 FR 63118) (FRL-9917-55).

FOR FURTHER INFORMATION CONTACT: For pesticide specific information, contact: Carissa Cyran, Pesticide Re-Evaluation Division (7508P), Office of Pesticide Programs, Environmental Protection Agency, 1200 Pennsylvania Ave. NW., Washington, DC 20460-0001; telephone number: (703) 347-8781; email address: cyran.carissa@epa.gov.

For general information on the registration review program, contact: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION: This document reopens the public comment period established in the Federal Register document of October, 22, 2014. In that document, the Agency announced that it had conducted an assessment as part of its ongoing re-evaluation of clothianidin, imidacloprid, and thiamethoxam under the registration review program. This assessment examines the use of clothianidin, imidacloprid, and thiamethoxam seed treatments in terms of the extent of use and the pests targeted in order to characterize overall benefits to soybean production nationwide. EPA is hereby reopening the comment period for 30 days, to January 24, 2015.

To submit comments, or access the docket, please follow the detailed instructions provided under ADDRESSES in the Federal Register document of October 22, 2014. If you have questions, consult the person listed under FOR FURTHER INFORMATION CONTACT.

Authority: 7 U.S.C. 136 et seq.

Dated: December 17, 2014.
Richard P. Keigwin, Jr.,
Director, Pesticide Re-Evaluation Division, Office of Pesticide Programs.

[FR Doc. 2014-30089 Filed 12-23-14; 8:45 am]

BILLING CODE 6560-50-P